DEPARTMENT OF EDUCATION

RIN 1820-ZA12

Rehabilitation Services Administration Recreational Program

AGENCY: Office of Special Education and Rehabilitative Services, Department of Education.

ACTION: Notice of proposed priority for fiscal year (FY) 2001 and later years.

SUMMARY: The Assistant Secretary for the Office of Special Education and Rehabilitative Services proposes a priority under the Recreational Program. The Assistant Secretary may use this priority for competitions in FY 2001 and later years. We take this action to provide individuals with disabilities recreational activities and related experiences to aid in their employment, mobility, socialization, independence, and community integration.

DATES: We must receive your comments on or before February 7, 2001.

ADDRESSES: Address all comments about this proposed priority to Mary E. Chambers, U.S. Department of Education, 400 Maryland Avenue, SW., room 3320, Switzer Building, Washington, DC 20202-2649. If you prefer to send your comments through the Internet, use the following address:

Mary_Chambers@ed.gov

You must include the term “Recreational Program” in the subject line of your electronic message.

FOR FURTHER INFORMATION CONTACT: Mary E. Chambers. Telephone: (202) 205-8435 or via Internet:

Mary_Chambers@ed.gov

If you use a telecommunications device for the deaf (TDD) you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding this proposed priority. We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 3420, Switzer Building, 330 C Street SW., Washington, DC, between the hours of 9 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for the proposed priority. If you want to schedule an appointment for this type of aid, you may call (202) 205-8113 or (202) 260-9895. If you use a TDD, you may call the Federal Information Relay Service at 1-800-877-8339.

We will announce the final priority in a notice in the Federal Register. We will determine the final priority after considering responses to this notice and other information available to the Department. This notice does not preclude us from proposing or funding additional priorities, subject to meeting applicable rulemaking requirements.

Note: This notice does not solicit applications. In any year in which the Assistant Secretary chooses to use this proposed priority, we invite applications through a notice in the Federal Register.

Priority

Background

Authority for the Recreational Program is contained in section 305 of the Rehabilitation Act of 1973, as amended (the Act) (29 U.S.C. 775). This proposed priority would support projects that provide individuals with disabilities with recreational activities and experiences that aid in their employment, mobility, socialization, independence, and community integration.

Proposed Priority

Under 34 CFR 75.105(c)(3) the Assistant Secretary proposes to give an absolute preference to applications that meet the following priority. The Assistant Secretary proposes to fund under this competition only applications that meet this absolute priority.

Projects must provide recreational services to individuals with disabilities. Recreational services include, but are not limited to, vocational skills development, leisure education, leisure networking, leisure resource development, physical education and sports, scouting and camping, 4-H activities, music, dancing, handicrafts, art, and homemaking. Recreational services do not include the construction of facilities for aquatic rehabilitation therapy.

Projects must provide recreational services to individuals with disabilities in settings with peers who are not individuals with disabilities.

Statutory Requirements

All applicants seeking funding under this competition must—

(a) Describe the manner in which the applicant will address the needs of individuals with disabilities from minority backgrounds (section 21(c) of the Act);

(b) Describe the manner in which the findings and results of the project to be funded under the grant, particularly information that facilitates the replication of the results of that project, will be made generally available (section 305(a)(4)(A) of the Act);

(c) Demonstrate ways in which recreational activities assist in maximizing the independence and integration of individuals with disabilities into community-based recreational programs (section 305(a)(1)(C) of the Act);

(d) Assure that the project will maintain, at a minimum, the same level of services over the three-year project period (section 305(a)(5) of the Act);

(e) Assure that the service program funded under the grant will be continued after Federal assistance ends (section 305(a)(4)(B) of the Act); and

(f) Provide non-Federal resources (in cash or in-kind) to pay the non-Federal share cost of the project in year two at 25 percent of year one Federal grant and year three at 50 percent of year one Federal grant (section 305(a)(3)(B) of the Act).

National Education Goals

The eight National Education Goals focus the Nation's education reform efforts and provide a framework for improving teaching and learning.

This proposed priority would address the National Education Goal that every American will possess the knowledge and skills necessary to compete in a global economy

Executive Order 12866

This notice of proposed priority has been reviewed in accordance with Executive Order 12866. Under the terms of the order the Assistant Secretary has assessed the potential costs and benefits of this regulatory action.

The potential costs associated with the notice of proposed priority are those resulting from statutory requirements and those we have determined as necessary for administering this program effectively and efficiently.

In assessing the potential costs and benefits—both quantitative and qualitative—of this notice of proposed priority, we have determined that the benefits of the proposed priority justify the costs.

We have also determined that this regulatory action does not unduly interfere with State, local, and tribal governments in the exercise of their governmental functions.

Elsewhere in this notice we discuss the potential costs and benefits of this proposed priority under the following heading: Background.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the preceding sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at:

http://www.access.gpo.gov/nara/index.html

Program Authority: 29 U.S.C. 775.

(Catalog of Federal Domestic Assistance Number: 84.128J Recreational Program.)
Dated: December 1, 2000.
Judith E. Heumann,
Assistant Secretary for Special Education and Rehabilitative Services.

[FR Doc. 01-407 Filed 1-5-01; 8:45 am]

BILLING CODE 4000-01-U